DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 17, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Date: November 18, 2015.
Roy E. Wright,
Deputy Associate Administrator for Insurance and Mitigation, Department of Homeland Security, Federal Emergency Management Agency.

I. Watershed-Based Studies:

Squaw Creek Watershed
Community | Community map repository address
Lake County, Illinois, and Incorporated Areas
Docket No.: FEMA-B-1404
Unincorporated Areas of Lake County | Central Permit Facility, 500 West Winchester Road, Unit 101, Libertyville, IL 60048.
Village of Grayslake | Village Hall, 10 South Seymour Avenue, Grayslake, IL 60030.
Village of Hainesville | Village Hall, 100 North Hainesville Road, Hainesville, IL 60030.
Village of Hawthorn Woods | Village Hall, 2 Lagoon Drive, Hawthorn Woods, IL 60047.
Village of Mundelein | Village Hall, 300 Plaza Circle, Mundelein, IL 60060.
Village of Round Lake | Village Hall, 442 North Cedar Lake Road, Round Lake, IL 60073.
Village of Round Lake Park | Village Hall, 203 East Lake Shore Drive, Round Lake Park, IL 60073.
Village of Volo | Village Hall, 500 South Fish Lake Road, Volo, IL 60073.
Village of Wauconda | Village Hall, 101 North Main Street, Wauconda, IL 60084.

II. Non-Watershed-Based Studies:

Community | Community map repository address
Winnebago County, Illinois, and Incorporated Areas
Docket No.: FEMA-B-1452
City of Loves Park | Public Works Department, 100 Heart Boulevard, Loves Park, IL 61111.
City of Rockford | City Hall, 425 East State Street, Rockford, IL 61104.
City of South Beloit | City Hall, 519 Blackhawk Boulevard, South Beloit, IL 61080.
Unincorporated Areas of Winnebago County | County Courthouse, 404 Elm Street, Rockford, IL 61101.
Village of Machesney Park | Planning & Zoning Department, 300 Roosevelt Road, Machesney Park, IL 61115.
Village of Pecatonica | Village Hall, 405 Main Street, Pecatonica, IL 61063.
Village of Rockton | Village Hall, 110 East Main Street, Rockton, IL 61072.
Village of Roscoe | Village Hall, 10631 Main Street, Roscoe, IL 61073.
Delaware County, Ohio, and Incorporated Areas
Docket No.: FEMA-B-1270
City of Delaware | City Building, 1 South Sandusky Street, 2nd Floor, Delaware, OH 43015.
Unincorporated Areas of Delaware County | Code Compliance Building, 50 Channing Street, South Wing, Delaware, OH 43015.
Armstrong County, Pennsylvania (All Jurisdictions)
Docket No.: FEMA-B-1443
Borough of Apollo | Borough Municipal Office, 616 First Street, Apollo, PA 15613.
Borough of Applewold | Applewold Borough Building, 8 Hickory Street, Kittanning, PA 16201.
Borough of Atwood | Atwood Borough Hall, 225 Atwood Sugar Run Road, Creekside, PA 15732.
Borough of Dayton | Borough Office, 207 Mechanic Street, Dayton, PA 16222.
Borough of Ford City | Borough Municipal Building, 1000 4th Avenue, Ford City, PA 16226.
Borough of Freeport | Borough Municipal Office, 414 Market Street, Freeport, PA 16229.
Borough of Kittanning | Borough Building, 300 South McKean Street, Kittanning, PA 16201
Borough of Leechburg | Borough Office, 260 Market Street, Leechburg, PA 15656.
Borough of Manorville | Borough Building, 600 Center Lane, Manorville, PA 16238.
Borough of North Apollo | Borough Building, 1421 Leonard Avenue, North Apollo, PA 15673.
Borough of Rural Valley | Borough Building, 300 Parkwood Drive, Rural Valley, PA 16249.
Borough of South Bethlehem | South Bethlehem Borough Building, 217 West Broad Street, New Bethlehem, PA 16242.
Borough of Worthington | Borough Municipal Building, 206 Church Street, Worthington, PA 16262.
City of Parker | City Hall, 210 North Cooper Avenue, Parker, PA 16049.
Township of Bethel | Bethel Township Hall, 3218 Ridge Road, Ford City, PA 16226.
Township of Boggs | Boggs Township Building, 292 Mountain Trails Road, Templeton, PA 16259.
Township of Brady's Bend | Brady's Bend Township Municipal Building, 1004 State Route 68, East Brady, PA 16028.
Township of Burrell | Burrell Township Municipal Building, 110 Cochran's Mill Road, Ford City, PA 16226.
Township of Cadogan | Township Office, 333 1st Avenue, Cadogan, PA 16212.
Township of Cowanshannock | Cowanshannock Township Municipal Building, 4033 Second Street, NuMine, PA 16244.
Township of East Franklin | East Franklin Township Municipal Building, 106 Cherry Orchard Avenue, Kittanning, PA 16201.
Township of Gilpin | Gilpin Township Municipal Building, 589 State Route 66, Leechburg, PA 15656.
Township of Hovey | Hovey Township Building, 600 North Riverview Drive, Parker, PA 16049.
Township of Kiskiminetas | Kiskiminetas Township Building, 1222A Old State Road, Apollo, PA 15613.
Township of Kittanning | Township Municipal Building, 395 Township Shed Road , Kittanning, PA 16201
Township of Madison | Madison Township Building, 107 Lawsonham Road, Templeton, PA 16259.
Township of Mahoning | Mahoning Township Office, 2237 Madison Road, Distant, PA 16223.
Township of Manor | Manor Township Municipal Building, 306 Byron Street, McGrann, PA 16236.
Township of North Buffalo | North Buffalo Township Municipal Building, 149 McHaddon Road, Kittanning, PA 16201.
Township of Parks | Parks Township Community Building, 26 Jackson Street, North Vandergrift, PA 15690.
Township of Perry | Perry Township Building, 758 Queenstown Road, Karns City, PA 16041.
Township of Pine | Pine Township Building, 115 Fifth Street, Templeton, PA 16259.
Township of Plumcreek | Plumcreek Township Building, 849 State Route 210, Shelocta, PA 15774.
Township of Rayburn | Rayburn Township Building, 105 McGregor Road, Kittanning, PA 16201.
Township of Redbank | Redbank Township Office, 135 Sugar Valley Road, Mayport, PA 16240.
Township of South Bend | South Bend Township Municipal Building, 219 Girty Road, Spring Church, PA 15686.
Township of South Buffalo | South Buffalo Township Municipal Building, 384 Iron Bridge Road, Freeport, PA 16229.
Township of Sugarcreek | Sugarcreek Township Municipal Building, 1807 State Route 268, East Brady, PA 16028.
Township of Valley | Valley Township Municipal Building, 321 Harris Road, Kittanning, PA 16201.
Township of Washington | Washington Township Office, 357 Adrian Sherrett Road, Adrian, PA 16210.
Township of Wayne | Wayne Township Building, 1381 State Route 1018, Dayton, PA 16222.
Township of West Franklin | West Franklin Township Municipal Building, 1473 Butler Road, Worthington, PA 16262.
Aransas County, Texas, and Incorporated Areas
Docket No.: FEMA-B-1443
City of Aransas Pass | City Hall, 600 West Cleveland Boulevard, Aransas Pass, TX 78336.
City of Port Aransas | City Hall, 710 West Avenue A, Port Aransas, TX 78373.
City of Rockport | Public Works Service Center, 2751 State Highway 35 Bypass, Rockport, TX 78382.
Town of Fulton | Town Hall, 201 North 7th Street, Fulton, TX 78358.
Unincorporated Areas of Aransas County | Aransas County Environmental Health Department, 870 Airport Road, Rockport, TX 78382.

[FR Doc. 2015-31011 Filed 12-8-15; 8:45 am]

BILLING CODE 9110-12-P